DEPARTMENT OF THE INTERIOR

Fish and Wildlife Service

Endangered Species; Permits

AGENCY: Fish and Wildlife Service, Interior.

ACTION: Notice of Finding of No Significant Impact (FONSI) and issuance of permit for incidental take of endangered species.

On November 20, 2001, a notice was published in the Federal Register (Vol. 66, No. 224 FR 58159) of the availability of a draft Environmental Assessment and Habitat Conservation Plan and that a permit application had been filed with the U.S. Fish and Wildlife Service (Service) by an Interagency Task Force located in Indianapolis, Indiana. The permit was to incidentally take, pursuant to section 10(a)(1)(B) of the Endangered Species Act of 1973 (16 U.S.C. 1539), as amended, Indiana bat (Myotis sodalis) in the vicinity of Six Points Road and related development within Hendricks and Marion Counties pursuant to the terms of the Habitat Conservation Plan.

Notice is hereby given that on April 4, 2002, the Proposed Action (Alternative 3) was selected and a Finding of No Significant Impact (FONSI) determination was made for the action as described in the final Environmental Assessment. As authorized by the provisions of the Act, the Service issued a permit (TE-048991) to the above named party subject to certain conditions set forth therein. The permit was granted only after the Service determined it was applied for in good faith, that granting the permit would not be to the disadvantage of the endangered species, and that it was consistent with the purposes and policy set forth in the Endangered Species Act, as amended.

Additional information on this permit may be requested by contacting Mr. Peter Fasbender, at (612) 713-5343, or peter_fasbender@fws.gov. The final Environmental Assessment and final Habitat Conservation Plan can be viewed on the Service's Regional website at: http://midwest.fws.gov/NEPA.

Dated: May 23, 2002.
Charlie Wooley,
Assistant Regional Director, Ecological Services, Region 3, Fort Snelling, Minnesota.

[FR Doc. 02-16091 Filed 6-25-02; 8:45 am]

BILLING CODE 4310-55-P